ENVIRONMENTAL PROTECTION AGENCY

40 CFR Part 52

[EPA-R10-OAR-2010-0917; FRL-9460-7]

Approval and Promulgation of State Implementation Plans: Alaska

AGENCY: Environmental Protection Agency (EPA).

ACTION: Proposed rule.

SUMMARY: EPA is proposing to approve revisions to Alaska's State Implementation Plan (SIP) relating to the motor vehicle inspection and maintenance program (I/M) for control of carbon monoxide (CO) in Anchorage. The State of Alaska submitted two revisions to the Alaska SIP: a November 13, 2009, submittal containing revisions to the statewide I/M program and a September 29, 2010, submittal discontinuing the I/M program in Anchorage as an active control measure in the SIP and shifting it to a contingency measure. The State's submittals include a revised a CO emissions inventory and motor vehicle emissions budget. EPA is proposing to approve the 2010 submittal because it satisfies the requirements of the Clean Air Act (CAA or the Act). EPA is not taking action on the 2009 submittal because the 2010 submittal supersedes the 2009 revision.

DATES: Written comments must be received on or before October 7, 2011.

ADDRESSES: Submit your comments, identified by Docket ID No. EPA-R10-OAR-2010-0917, by one of the following methods:

A. http://www.regulations.gov. Follow the on-line instructions for submitting comments.

B. Mail: Claudia Vergnani Vaupel, U.S. EPA Region 10, Office of Air, Waste, and Toxics (AWT-107), 1200 Sixth Avenue, Suite 900, Seattle, Washington 98101.

C. Hand Delivery: US EPA Region 10 Mailroom, 9th Floor, 1200 Sixth Avenue, Seattle, Washington 98101. Attention: Claudia Vergnani Vaupel, Office of Air Waste, and Toxics (AWT-107). Such deliveries are only accepted during normal hours of operation, and special arrangements should be made for deliveries of boxed information.

Instructions: Direct your comments to Docket ID No. EPA-R10-OAR-2010-0917. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means the EPA will not know your identity or contact information unless you provide it in the body of your comment. If you send an e-mail comment directly to the EPA without going through http://www.regulations.gov, your e-mail address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material is not placed on the Internet and will be publicly available only in hard copy form. Publicly available docket materials are available either electronically in http://www.regulations.gov or in hard copy during normal business hours at the Office of Air, Waste and Toxics, EPA Region 10, 1200 Sixth Avenue, Seattle, Washington 98101.

FOR FURTHER INFORMATION CONTACT: Claudia Vergnani Vaupel at telephone number: (206) 553-6121, e-mail address: vaupel.claudia@epa.gov, or Krishna Viswanathan at telephone number: (206) 553-2684, e-mail address: viswanathan.krishna@epa.gov, or the above EPA, Region 10 address.

SUPPLEMENTARY INFORMATION: Throughout this document whenever “we,” “us,” or “our” is used, we mean the EPA. Information is organized as follows:

Table of Contents

I. What is EPA's proposed action?

II. What is the background for this proposed action?

III. What changes to the Alaska SIP were submitted for EPA approval?

IV. What criteria apply to Alaska's request?

V. What is EPA's analysis of Alaska's SIP revision?

VI. What are EPA's conclusions concerning the removal of the I/M program in Anchorage?

VII. Statutory and Executive Order Reviews

I. What is EPA's proposed action?

EPA is proposing to approve revisions to the Alaska I/M program contained in the State's September 29, 2010, submittal. The submittal contains substantial revisions to the Anchorage CO maintenance plan that remove the I/M program as an active control measure for CO in the SIP and move it to the contingency measures portion of the SIP. Upon final approval of this revision by EPA, the I/M program in Anchorage will no longer be an active control measure in the SIP, but will be a contingency measure that may be implemented in the future if the need arises.

II. What is the background for this proposed action?

Anchorage, Alaska, was first declared a nonattainment area for CO and classified as moderate on January 27, 1978. The Municipality of Anchorage prepared a plan to attain the CO National Ambient Air Quality Standard (NAAQS) ¹ by December 31, 1987; however, Anchorage failed to achieve attainment by December 31, 1987. The CAA was amended in November 1990, and EPA designated Anchorage as a moderate nonattainment area for CO and required submission of a revised air quality plan to bring Anchorage into attainment by December 31, 1995. EPA approved the plan in 1995, however, two violations of the NAAQS in 1996 resulted in EPA reclassifying Anchorage to serious nonattainment on July 13, 1998, with an attainment date of December 31, 2000. The State submitted a new plan on January 4, 2002, and EPA proposed approval of the plan (67 FR 38218) on June 3, 2002. On September 18, 2002, EPA approved the Anchorage CO attainment plan (67 FR 58711).

¹ The national 8-hour CO ambient standard is attained when the highest 8-hour CO concentration of 9 parts per million (ppm) is exceeded no more than one time in a calendar year. EPA has proposed to retain the current standard of 9 ppm, based on the latest review of the CO NAAQS (76 FR 8158, February 11, 2011).

On February 18, 2004, the State submitted a maintenance plan and a redesignation request for the Anchorage CO nonattainment area. EPA proposed approval of the Anchorage CO maintenance plan on May 10, 2004 (69 FR 25869) and approved the plan on June 23, 2004 (69 FR 34935). The maintenance plan relied on control strategies needed to assure maintenance of the CO NAAQS. The strategy focused on the Federal Motor Vehicle Emission Control Program, an I/M program, expanded wintertime transit service, and promotion of engine pre-heaters.

On March 29, 2002, and December 11, 2006, the State submitted revisions to the CO SIP. The 2002 submittal revised the statewide I/M regulations to provide for electronic vehicle inspection renewal and to remove the requirement for a paper certificate to be maintained in the vehicle. The 2006 submittal revised the statewide I/M regulations to lengthen the time period before which new vehicles were required to obtain their first certificate of inspection from two years to four years. Each of the submittals also contained minor revisions that were administrative in nature. On September 15, 2009, EPA proposed to approve the State's submittals (74 FR 47154) and finalized the approval on April 21, 2010 (75 FR 13436).

III. What changes to the Alaska SIP were submitted for EPA approval?

The State has submitted two revisions to the Anchorage CO maintenance plan: a November 13, 2009, submittal containing revisions to the statewide I/M program and a September 29, 2010, submittal discontinuing the I/M program in Anchorage as an active control measure in the SIP and shifting it to a contingency measure.

The 2010 submittal supersedes the 2009 submittal with a significant revision to the Anchorage CO maintenance plan that will remove the I/M program as an active control measure in the SIP upon final approval of this revision by EPA. The 2010 submittal updates the 2007-2023 emissions inventory to account for the removal of the I/M program after 2011 and includes a revised motor vehicle emissions budget. The submittal moves the I/M program as an active control measure in the SIP and shifts it to a contingency measure that can be implemented should a violation of the CO standard occur. The 2010 submittal also includes the contingency measures that were updated in the 2009 submittal. In addition, the 2010 submittal establishes CO background values to be used in future CO project-level conformity analyses.²

² There is no requirement to establish CO background values for project-level conformity analyses in the SIP. EPA is not proposing to take action on this component of the 2010 submittal.

Alaska's 2010 SIP amendment submittal is reviewed below. The EPA has also prepared a Technical Support Document (TSD) with more detailed analysis of the SIP revisions the State submitted for approval. The TSD is available for public review as part of the docket for this action.

IV. What criteria apply to Alaska's request?

The Anchorage CO maintenance plan relies on control strategies needed to assure maintenance of the NAAQS for CO. As stated earlier in this document, one of the primary control measures is an I/M program. The I/M program may be revised or removed as an active control measure in the SIP, provided the State can satisfy the requirements of CAA section 110(l), which states:

Each revision to an implementation plan submitted by a State under this Act shall be adopted by such State after reasonable notice and public hearing. The Administrator shall not approve a revision to a plan if the revision would interfere with any applicable requirement concerning attainment and reasonable further progress (as defined in section 171), or any other applicable requirement of this Act.

EPA must evaluate whether the State's proposed revisions will interfere with attainment or maintenance of any NAAQS and any other applicable requirement of the Act. In addition, although EPA may approve removal of a control measure with such a demonstration, any measure that is removed from the active portion of a SIP must be retained as a contingency measure under section 175A(d) of the Act.³ EPA's review concerns the removal of the I/M program. We are not acting on the State's addition of CO background concentrations for CO project-level conformity analyses.

³ See September 4, 1992 memorandum from John Calcagni to the EPA Air Division Directors (“Procedures for Processing Requests to Redesignate Areas to Attainment,” Memorandum from John Calcagni, Director, Air Quality Management Division).

V. What is EPA's analysis of Alaska's SIP revision?

To satisfy section 110(l) of the Act, the State submitted a technical analysis using probabilistic rollback modeling that demonstrates that the State will continue to maintain the CO standard in Anchorage without the I/M program in place. All of the technical work contained in the State's submittal was performed using similar methodology that the State used to demonstrate maintenance in the Anchorage maintenance plan that EPA approved in 2004. Where data was available, emissions inventory and modeling inputs were updated with more recent information. This is explained further in our review and analysis of the State's submittal below and in the TSD for this proposed action. The Anchorage CO maintenance area is well within the attainment limits for all of the other criteria pollutants that are monitored in the area.⁴ Based on this information, EPA concludes that removing the I/M program will not interfere with attainment or maintenance of other NAAQS.

⁴ See air quality monitoring data reports in the docket.

A. Emissions inventory

The State submitted an updated emissions inventory for the period 2007-2023. The inventory was prepared in accordance with EPA's CO emissions inventory guidance.⁵ The inventory included emissions for stationary sources, area sources, non-road mobile sources and on-road mobile sources on a typical 24-hour winter day. The State prepared an area-wide inventory of the Anchorage CO maintenance area and a micro-inventory of the area surrounding the Turnagain monitoring station in west Anchorage. The Turnagain station exhibits the highest CO concentrations of the current monitoring network; it has been shown to be approximately 20% higher than the next highest site. The Turnagain micro-inventory provides added insight into the sources of CO surrounding the monitor and guided the State in developing control strategies for the Anchorage CO maintenance area. The State projected the area-wide and Turnagain inventories from the 2007 base year inventory to the years 2008-2023. The complete inventory is included in the State's submittal. The TSD for this proposed action contains a detailed discussion and table of emissions from the 2007-2023 inventory.

⁵ Emissions Inventory Requirements for Carbon Monoxide State Implementation Plans EPA-450/4-91-011.

Area-wide Emissions Inventory

In the 2010 submittal, the area-wide inventory depicts elimination of the I/M program starting in 2011. Without an I/M program, total area-wide CO emissions are projected to decline by 3.5 tons per day (tpd) (3.5%) between the 2007 base year (101 tpd) and the 2023 horizon planning year (97.5 tpd). This is caused by a 16% reduction in on-road emissions (from 51.04 tpd to 42.85 tpd) during this timeframe. The primary driver of lower on-road emissions is a sustained reduction in average in-use emission rates as newer, cleaner vehicles continue to replace older, higher emitting vehicles. Projections from the area-wide emissions inventory indicate that CO emissions reductions from 2007-2023 are expected to occur in Anchorage either with or without the I/M program in place.

Turnagain Micro-Inventory

The Turnagain micro-inventory represents the area near the Turnagain monitoring station, located in the Spenard-area neighborhood, which the State has identified as having the highest CO concentrations of all the monitoring stations in Anchorage. Maximum 8-hour concentrations were typically 10 to 20% higher than the next highest site, Garden, in east Anchorage. During a 1997-98 CO Saturation Study, 8-hour CO concentrations at the Turnagain site were the highest among the 20 sites included in the study. The State provided support to establish that the probability of exceeding the NAAQS at the Turnagain station at current CO emission levels is about 1 in 100 while the probability of violating at the Garden station is less than 1 in 1,000. For this reason, the State prepared a micro-inventory of the area surrounding the Turnagain monitoring site for the maintenance demonstration. In order to perform this demonstration, CO emissions were estimated from the 2007 base year and projected through 2023. Emissions are projected to decrease by about 12% in the Turnagain micro-inventory area without an I/M program. The micro-inventory trends are consistent with the area-wide trends.

B. Maintenance Demonstration

Because the Turnagain monitoring site exhibits the highest CO concentrations in the monitoring network, the State used the micro-inventory from the Turnagain area in the maintenance demonstrations. The State used a probabilistic roll-forward approach to demonstrate maintenance with the CO standard. A detailed discussion of this methodology and results can be found in the State's submittal and in EPA's TSD for this proposed action.

Consistent with methods used in previous plans submitted by the State and approved by EPA, at least a 90% confidence interval is desirable for a long-term demonstration of attainment for a maintenance plan. Based on the modeling results contained in the State's submittal, the probability of attainment is 99% or higher for all years in the State's maintenance demonstration. In addition, the State performed a sensitivity analysis that assumed three times higher rates of growth in vehicle travel than projected and a 2% per annum growth in wood burning. The probability of compliance with the higher rates remains at 99% or greater each year through 2023 with or without an I/M program. EPA's evaluation of the probabilistic rollback modeling in the State's 2010 submittal concludes that the Anchorage area will continue to attain and maintain the CO standard through the year 2023 without the I/M program in place. Therefore, EPA is proposing to approve this modification to the State's CO SIP.

C. Contingency Measures

As a primary control strategy in the current CO SIP, the I/M program for Anchorage must be retained as a contingency measure. In addition to this contingency measure, the previously approved contingency measures in the SIP continue to apply. As stated above, section 175A(d) of the Act requires that the State will implement all measures with respect to the control of the air pollutant concerned which were contained in the SIP for the area before redesignation of the area to attainment. To satisfy this requirement, the I/M program will no longer serve as an active control measure in the SIP and will shift to a contingency measure that will be available for implementation if needed to ensure continued maintenance of the CO NAAQS. As documented in the State's 2010 submittal, Anchorage will retain the local legal authority necessary to implement the I/M program as a contingency measure. Similarly, the State will retain its authority to implement the I/M program.

The 2009 submittal, for which EPA is not taking action, updated the contingency measures section of the Anchorage CO maintenance plan. EPA is proposing to approve the contingency measures specified in the 2010 submittal, which include some that were originally included in the State's 2009 submittal. The revised CO contingency measures that EPA is proposing to include in this action include the following strategies: Increase public awareness and education, transit, carpool, and vanpool promotion efforts; curtail or limit the use of fireplaces, wood stoves and other wood burning appliances when high CO is predicted; promote increase in transit ridership among commuters by offering reduced fares or free transit fares for employees of companies that contribute to subsidy.

D. Conformity Budget

Under section 176 of the Act, transportation plans, programs, and projects in nonattainment or maintenance areas that are funded or approved under 23 U.S.C. or the Federal Transit Act must conform to an approved SIP. In short, a transportation plan is deemed to conform to the applicable SIP if the emissions resulting from implementation of that transportation plan are less than or equal to the motor vehicle emission level established in the SIP for the maintenance year and other analysis years. A motor vehicle emissions budget applies as a ceiling on emissions in the year for which it is defined, and for all subsequent years until another year for which a budget is defined or until a SIP revision modifies the budget.

The State's submittal establishes a new on-road motor vehicle emissions budget for the Anchorage area to be used for transportation conformity and regional conformity analyses. Once the motor vehicle emissions budget is approved by EPA, emissions modeled from the transportation network reflected in the Anchorage Long Range Transportation Plan and Transportation Improvement Program (TIP) must be less than or equal to the approved motor vehicle emissions budget. For projects not from a conforming TIP, the additional emissions from the project together with the TIP emission must be less than or equal to the budget.

Consistent with the previously approved Anchorage CO maintenance plan, the motor vehicle emissions budget is based on emissions inventories and attainment thresholds calculated using a hybrid method that combined measured idle test data and plug-in data with outputs from MOBILE6.2. The maintenance plan sets out a means for agencies to compute emissions for use in TIP and project conformity determinations.

The Anchorage motor vehicle emissions budget is based on the emission inventories and attainment projections found in the State's submittal. The State used the most recent population, employment, and land use assumptions and forecasts to generate the 2007 base year CO inventory and forecasts through 2023. This motor vehicle emissions budget applies for each of the years listed in the table below. The values presented are based upon the 90% confidence level target for maintenance plans.

Anchorage Motor Vehicle Emissions Budget
Calendar year | CO Emissions (tpd)
2007 | 92.1
2008 | 91.7
2009 | 91.2
2010 | 90.8
2011 | 90.3
2012 | 89.9
2013 | 89.4
2014 | 89.0
2015 | 88.5
2016 | 88.0
2017 | 87.6
2018 | 87.0
2019 | 86.4
2020 | 85.8
2021 | 85.2
2022 | 84.6
2023 | 84.0

Based on this analysis, EPA concludes that the conformity budget in the 2010 submittal meets the purpose of section 176(c)(2)(A) and meets the criteria contained in the conformity rule 40 CFR 93.118(e)(4). Accordingly, EPA is proposing to approve the conformity budget contained in the State's 2010 submittal.

VI. What are EPA's conclusions concerning the removal of the I/M program in Anchorage?

The State's forecast and analysis of motor vehicle pollutant emissions show that CO concentrations will decline substantially in Anchorage through 2023 without the I/M program in place. The Anchorage CO maintenance area is well within the attainment limits for all of the criteria pollutants that are monitored in the area. Based on this information, EPA concludes that removing the I/M program will not interfere with attainment or maintenance of CO or any other NAAQS in the area. EPA finds that the 2010 submittal meets the requirements of section 110(l) of the Act and proposes to approve it. EPA is not proposing to take action on the State's CO background concentrations for CO project-level conformity analyses.

VII. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Intergovernmental relations, Reporting and recordkeeping requirements.

Dated: August 25, 2011.
Michael A. Bussell,
Acting Regional Administrator, Region 10.

[FR Doc. 2011-22841 Filed 9-6-11; 8:45 am]

BILLING CODE 6560-50-P